DEPARTMENT OF JUSTICE

Notice of Lodging of Consent Decree Between the United States of America and Scarsella Brothers, Inc. Under the Clean Water Act

Under 28 CFR 50.7, notice is hereby given that on May 3, 2006, a proposed Consent Decree (“Consent Decree”) with Scarsella Brothers, Inc., in the case of United States v. Scarsella Brothers, Inc. and the Idaho Department of Transportation, Civil Action No. 04-428, has been lodged with the United States District Court for the District of Idaho.

This Consent Decree resolves the United States' pending claims against Scarsella Brothers Inc., pursuant to section 309(b) and (d) of the Clean Water Act, 33 U.S.C. 1319(b) and (d), for violations of the Act's requirements governing the discharge of storm water. The violations occurred during a road building project in northern Idaho. Under the terms of the Scarsella Consent Decree, Scarsella shall (1) Pay a civil penalty of $400,000; (2) increase the training required of its personnel for projects in the State of Idaho; and, (3) make payments to a citizen group that intervened in this action.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Scarsella Brothers, Inc. and the Idaho Department of Transportation, Civil Action No. 04-428, D.J. Ref. 90-5-1-1-08052.

The Consent Decree may be examined at the Office of the United States Attorney, District of Idaho, Washington Park Plaza IV, 800 Park Blvd., Suite 600, Boise, Idaho, and at U.S. EPA Region 10, 1200 6th Ave., Seattle, Washington. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.50 (25 cents per page reproduction cost) payable to the United States Treasury for payment.

Robert Maher,
Assistant Section Chief, Environmental Enforcement Section, Environment and Natural Resources Division.

[FR Doc. 06-4609 Filed 5-16-06; 8:45 am]

BILLING CODE 4410-15-M